DEPARTMENT OF HEALTH AND HUMAN SERVICES

Centers for Disease Control and Prevention

National Task Force on Fetal Alcohol Syndrome and Fetal Alcohol Effect: Conference Call Meeting

In accordance with section 10(a)(2) of the Federal Advisory Committee Act (Pub. L. 92-463), the Centers for Disease Control and Prevention (CDC) announce the following Federal advisory committee conference call meeting.

Name: National Task Force on Fetal Alcohol Syndrome and Fetal Alcohol Effect (NTFFASFAE).

Time and Date: 3 p.m.-4 p.m., August 22, 2005.

Place: The conference call will originate at the National Center on Birth Defects and Developmental Disabilities (NCBDDD), in Atlanta, Georgia. Please see SUPPLEMENTARY INFORMATION for details on accessing the conference call.

Status: Open to the public, limited only by the availability of telephone ports.

Purpose: The Secretary is authorized by the Public Health

Service Act, Section 399G, (42 U.S.C. 280f, as added by Pub. L. 105-392) to establish a National Task Force on Fetal Alcohol Syndrome and Fetal Alcohol Effect to:

(1) Foster coordination among all governmental agencies, academic bodies and community groups that conduct or support Fetal Alcohol Syndrome (FAS) and Fetal Alcohol Effect (FAE) research, programs and surveillance; and

(2) To otherwise meet the general needs of populations actually or potentially impacted by FAS and FAE.

Matters To Be Discussed: The Task Force will convene via conference call to discuss and approve the content of a letter to be sent to the Department of Education on behalf of the National Task Force recommending inclusion of fetal alcohol syndrome in the regulations of the Individuals with Disabilities Education Act (IDEA).

Agenda items are subject to change as priorities dictate.

Supplementary Information: This conference call is scheduled to begin at 3 p.m., eastern time. To participate in the conference call, please dial 1-877-546-1565. The passcode: MWEBER and the leader's name: Mary Kate Weber will be required to join the call. You will then be automatically connected to the call.

For Further Information Contact: Mary Kate Weber, MPH, Designated Federal Official, NCBDDD, CDC, 1600 Clifton Road, NE, (E-86), Atlanta, Georgia 30333, telephone (404) 498-3926, fax (404) 498-3550.

The Director, Management Analysis and Services Office, has been delegated the authority to sign Federal Register notices pertaining to announcements of meetings and other committee management activities for both the CDC and the Agency for Toxic Substances and Disease Registry.

Dated: July 19, 2005.
Alvin Hall,
Director, Management Analysis and Services Office, Centers for Disease Control and Prevention.

[FR Doc. 05-14677 Filed 7-25-05; 8:45 am]

BILLING CODE 4163-18-P